POSTAL SERVICE

Product Change—Standard Mail Saturation Flats Negotiated Service Agreement

AGENCY: Postal Service ™.

ACTION: Notice.

SUMMARY: The Postal Service hereby provides notice of filing of a request with the Postal Regulatory Commission to add a Standard Mail Saturation Flats negotiated service agreement to the market-dominant product list within the Mail Classification Schedule.

DATES: May 7, 2012.

FOR FURTHER INFORMATION CONTACT: Brandy Osimokun, 202-268-2982.

SUPPLEMENTARY INFORMATION: The United States Postal Service® hereby gives notice that on April 30, 2012, it filed with the Postal Regulatory Commission a Notice of the United States Postal Service of Filing of Contract and Supporting Data and Request to Add Valassis Direct Mail, Inc. Negotiated Service Agreement to the Market-Dominant Product List, pursuant to 39 U.S.C. 3642 and 3622(c)(10). Documents are available at www.prc.gov, Docket Nos. MC2012-14, R2012-8.

Stanley F. Mires,
Attorney, Legal Policy & Legislative Advice.

[FR Doc. 2012-10860 Filed 5-4-12; 8:45 am]

BILLING CODE 7710-12-P